NUCLEAR REGULATORY COMMISSION

[Docket No. 50-150]

Ohio State University Research Reactor; Notice of Issuance of Environmental Assessment and Finding of No Significant Impact

The U.S. Nuclear Regulatory Commission (NRC) is considering issuance of a renewed Facility License No. R-75, to be held by Ohio State University (OSU or the licensee), which would authorize continued operation of the Ohio State University Research Reactor (OSURR), located in Columbus, Franklin County, Ohio. Therefore, pursuant to 10 CFR 51.21, the NRC is issuing an Environmental Assessment and Finding of No Significant Impact.

Description of Proposed Action

The proposed action is approval of the licensee's application for renewal of Facility License No. R-75 for a period of 20 years from the date of issuance of the renewed license. The proposed action is in accordance with the licensee's application dated December 15, 1999, as supplemented on August 21, 2002, August 18, 2005, July 26, 2006, May 22, 2007, May 31, 2007, September 4, and September 28, 2007; and February 29, 2008.

The OSURR is located approximately 1.5 miles (2.4 km) west of the main campus on land owned by OSU and is a part of the Ohio State University Research Center. The site comprises the reactor building and a small area immediately surrounding it, bounded by a chain-link fence. The nearest permanent residences are located approximately 0.3 miles (0.5 km) to the west and approximately 0.3 miles (0.5 km) to the south. There are no nearby industrial, transportation, or military facilities that could pose a threat to the OSURR.

The OSURR is a pool-type, light water moderated and cooled research reactor licensed to operate at a steady-state power level of 500 kilowatts thermal power (kW(t)). A detailed description of the reactor can be found in the OSURR Safety Analysis Report (SAR). The major modifications to the Facility License were conversion from high enriched fuel to low enriched fuel in 1988 and a licensed power increase from 10 kW(t) to 500 kW(t) in November 1990.

The licensee has not requested any changes to the facility design or operating conditions as part of the renewal request. The proposed action will not significantly increase the probability or consequences of accidents. No changes are being made in the types of effluents that may be released off site. There is no significant increase in occupational or public radiation exposure. Therefore, license renewal should not change the environmental impact of facility operation.

Summary of the Environmental Assessment

The NRC staff reviewed the licensee's application which included an Environmental Report. To document its review, the NRC staff has prepared an environmental assessment (EA) which discusses the OSURR site and facility; radiological impacts of gaseous, liquid, and solid effluents; environmental and personnel radiation monitoring; radiation dose estimates for the maximum hypothetical accident (MHA); impacts of the “no action” alternative to the proposed action; alternative use of resources; considerations related to the National Environmental Policy Act (NEPA); and presents the radiological and non-radiological environmental impacts of the proposed action.

Finding of No Significant Impact

On the basis of the environmental assessment, the NRC concludes that the proposed action will not have a significant effect on the quality of the human environment. Accordingly, the NRC has determined not to prepare an environmental impact statement for the proposed action.

For further details with respect to the proposed action, see the licensee's letter dated December 15, 1999 (ML993610185), as supplemented by letters dated August 21, 2002 (ML022380431), August 18, 2005 (ML052350564); July 26, 2006 (ML062090072); May 22, 2007 (ML071430417); May 31, 2007(ML071550098); September 4, 2007 (ML072490367); September 28, 2007 (ML072750038); and February 29, 2008 (ML080650352). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. The EA can be found in ADAMS under Accession Number ML070230004. Persons who do not have access to ADAMS or who encounter problems in accessing the documents located in ADAMS should contact the NRC PDR Reference staff at 1-800-397-4209, or 301-415-4737, or send an e-mail to pdr@nrc.gov.

Dated at Rockville, Maryland, this 7th day of April, 2008.
For the Nuclear Regulatory Commission.
Daniel S. Collins,
Chief, Research and Test Reactors Branch A, Division of Policy and Rulemaking, Office of Nuclear Reactor Regulation.

[FR Doc. E8-7848 Filed 4-11-08; 8:45 am]

BILLING CODE 7590-01-P